FEDERAL COMMUNICATIONS COMMISSION

47 CFR Part 15

[ET Docket No. 99-231, FCC 00-312]

Spread Spectrum Devices

AGENCY: Federal Communications Commission.

ACTION: Final rule; correction.

SUMMARY: This document corrects the effective date of the final rule which was published in the Federal Register of September 25, 2000 (65 FR 57557), regarding the Commission's rules for frequency hopping spread spectrum devices. The DATES section of the final is corrected as set forth below.

DATES: Effective October 25, 2000.

FOR FURTHER INFORMATION CONTACT: Neal L. McNeil, Office of Engineering and Technology, (202) 418-2408, TTY (202) 418-2989, e-mail: mcneil@fcc.gov.

SUPPLEMENTARY INFORMATION: As originally published, the Federal Register had an erroneous effective date. This document corrects that error.

Federal Communications Commission.
Magalie Roman Salas,
Secretary.

[FR Doc. 00-25015 Filed 9-28-00; 8:45 am]

BILLING CODE 6712-01-U